DEPARTMENT OF COMMERCE

National Oceanic and Atmospheric Administration

RIN 0648-BC21

Magnuson-Stevens Fishery Conservation and Management Act Provisions; Fisheries of the Northeastern United States; Atlantic Surfclam and Ocean Quahog Fishery

AGENCY: National Marine Fisheries Service (NMFS), National Oceanic and Atmospheric Administration (NOAA), Commerce.

ACTION: Notice; request for comments.

SUMMARY: The Department of Commerce, as part of its continuing effort to reduce paperwork and respondent burden, invites the general public and other Federal agencies to take this opportunity to comment on proposed information collections, as required by the Paperwork Reduction Act of 1995. This request for comments is for information collection requirements from a recently published proposed rule regarding an action to reopen a portion of the Georges Bank Closed Area to the harvest of Atlantic surfclams and ocean quahogs. The full details of this action can be found in the proposed rule. This Federal Register notice is soliciting comments only on the burden estimates for the collection of information requirements under the testing protocol and the letter of authorization requirements that are associated with the proposed rule.

DATES: Written comments must be submitted on or before November 21, 2012.

ADDRESSES: You may submit comments, by any of the following methods:

• Electronic Submissions: Submit all electronic public comments via the Federal e-Rulemaking portal http://www.regulations.gov.

• Fax: (978) 281-9135, Attn: Jason Berthiaume.

• Mail: John K. Bullard, Regional Administrator, NMFS, Northeast Regional Office, 55 Great Republic Drive, Gloucester, MA 01930. Mark the outside of the envelope: “Comments on the Collection of Information Requirements for the Proposed Reopening of the GB Closed Area.”

Instructions: All comments received are part of the public record and will generally be posted to http://www.regulations.gov without change. All Personal Identifying Information (for example, name, address, etc.) voluntarily submitted by the commenter may be publicly accessible. Do not submit confidential business information or otherwise sensitive or protected information.

NMFS will accept anonymous comments. Attachments to electronic comments will be accepted via Microsoft Word, Microsoft Excel, WordPerfect, or Adobe PDF file formats only.

FOR FURTHER INFORMATION CONTACT: Jason Berthiaume, Fishery Management Specialist, phone (978) 281-9177, fax (978) 281-9135.

SUPPLEMENTARY INFORMATION:

I. Abstract

The Georges Bank (GB) Closed Area has been closed to the harvest of surfclams and ocean quahogs since 1990 due to red tide blooms that cause Paralytic Shellfish Poisoning (PSP). The action associated with the collection of information requirements discussed in this Federal Register notice, if implemented, would open a portion of the GB Closed Area for harvesting surfclams and ocean quahogs, provided harvesting is conducted under the terms and conditions of the Protocol for Onboard Screening and Dockside Testing in Molluscan Shellfish. The full details of this action can be reference in the Federal Register notice that was published for the proposed rule (77 FR 53164; August 31, 2012). The protocol is designed to test and verify that clams harvested from GB are safe for human consumption. The protocol was formally adopted into the National Shellfish Sanitation Program at the October 2011 Interstate Shellfish Sanitation Conference. The protocol includes a detailed procedure outlining how shellfish are to be harvested, tested, and handled. The PSP testing protocol includes the following requirements that require analysis under the Paperwork Reduction Act (PRA): Submission of concurrence from the state of landing; maintain and submit harvest records; compile and submit laboratory results; create and maintain a written onboard lot segregation plan; and provide notification prior to unloading.

Additionally, to monitor and control the harvest of surfclams and ocean quahogs from the area, and to ensure vessels adhere to the protocol, vessels fishing in the area would be required to apply for and obtain a letter of authorization (LOA) from NMFS. The LOA would help to ensure that vessels are adhering to the regulations for harvesting within the area and would provide a mechanism for NMFS to restrict harvesting in the area should a vessel not comply with the terms and conditions of the LOA and/or the PSP testing protocol. The full protocol is available for viewing at www.nero.noaa.gov/sfd/clams/ApprovedProtocol.pdf.

II. Method of Collection

In regards to the requirement to obtain an LOA, in 2011, there were 47 Federal open-access surfclam and/or ocean quahog permitted vessels that landed surfclams and/or ocean quahogs that may wish to fish in the area proposed to be reopened. Each vessel could apply up to once a year, for a maximum of 47 applications. It is expected that each application would take 5 minutes to complete, for a fleet maximum of 4 hours. There is no additional public cost associated with this change as the application would be submitted with the previously existing annual permit renewal package.

In regards to the information collection required under the protocol, if all of the permitted vessels in 2011 fished in the area, there would be a total of 47 entities, as well as 11 states, that would be required to adhere to the terms and conditions of the PSP testing protocol. While the PSP testing protocol outlines what is required, there would be differences in the complexity of the documents as well as varying methods of submission. For this PRA analysis, it is assumed that the traditional method of submission will be used, physical mail at 45 cents per submission; however, it is likely that many submissions will be completed electronically and, therefore, the overall cost would be reduced.

The testing protocol requires numerous elements that contain collection of information requirements, including elements that are submitted to NMFS, as well as to state and private entities. The submission of concurrence from state of landing element is required only of the state, which would total 11 entities. This submission would be in the form of an annual written letter, with a total time burden estimate of 11 hr (11 submissions × 1 hr) and would cost $5 (11 submissions × $0.45).

The remainder of the requirements in the protocol apply to individual vessels, and is based on the maximum number of trips that occurred in the area in 2011 (46 trips). Three of these elements would require document submission, one of which is an annual submission, and the other two which are required on each trip. The result is 4,370 submissions (((47 × 46) ×2) + 46) with a total public cost burden of $1,967 (4,370 × $0.45). The offload notification requirement does not impose any additional costs, as the notification would be completed through a pre-existing email or cellular phone account and is not required to be submitted in writing.

It is estimated that both the requirement to submit and maintain harvest records and compile and submit laboratory test results would take 30 minutes each to complete. Based on the number of anticipated trips into the area, there would be 4,324 submissions and a public burden of 2,162 hr (4,324 submissions × 30 min). The element to create and maintain a written onboard lot segregation plan is required annually and would take approximately 60 min to complete for a public burden of 47 hr (47 submissions × 1 hr). The notification element is required on each trip and is estimated to take 5 min per notification, resulting in 180 hr of burden (2,162 notifications × 5 min). The total resulting time burden to the public from all of the requirements to fish in the reopened portion of the GB Closed Area is 2,404 hr (4 + 11 + 2,162 + 47 + 180).

III. Data

Northeast Region Permit Family of Forms Collection

OMB Control Number: 0648-0202.

Form Number: None.

Type of Review: Regular submission.

Affected Public: Business and other for-profit organizations.

Estimated Number of Respondents: 47.

Estimated Time per Response: 5 min per LOA application.

Estimated Total Annual Cost to Public: $0 in recordkeeping/reporting costs

Surfclam/Ocean Quahog Administration.

OMB Control Number: 0648-0240.

Form Number: None.

Type of Review: Regular submission.

Affected Public: State, local, or tribal government; business or other for-profit organizations.

Estimated Number of Respondents: 58.

Estimated Time per Response: 60 min per submission of the concurrence from the state of landing; 30 minutes per response to maintain and submit harvest records; 30 min per response compile and submit laboratory test results; 60 min per response to create and maintain a written onboard lot segregation plan; and 5 min per response to provide notification prior to unloading

Estimated Total Annual Cost to Public: $1,972 in recordkeeping/reporting costs

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Authority: 16 U.S.C. 1801 et seq.

Dated: October 16, 2012.
Alan D. Risenhoover,
Director, Office of Sustainable Fisheries, performing the functions and duties of the Deputy Assistant Administrator for Regulatory Programs.

[FR Doc. 2012-25982 Filed 10-19-12; 8:45 am]

BILLING CODE 3510-22-P